ENVIRONMENTAL PROTECTION AGENCY

[FRL-9905-33-OARM]

Access to Confidential Business Information by Enrollees Under the Senior Environmental Employment Program

AGENCY: Environmental Protection Agency (EPA).

ACTION: Notice.

SUMMARY: EPA has authorized grantee organizations under the Senior Environmental Employment (SEE) Program and their enrollees access to information which has been submitted to EPA under the environmental statutes administered by the Agency. Some of this information may be claimed or determined to be confidential business information (CBI).

DATES: Comments concerning CBI access will be accepted on or before April 21, 2014.

ADDRESSES: Comments should be submitted to: Susan Street, National Program Manager, Senior Environmental Employment Program (MC 3600M), U.S. Environmental Protection Agency, 1200 Pennsylvania Avenue NW., Washington, DC 20460.

FOR FURTHER INFORMATION CONTACT: Susan Street (202) 564-0410.

SUPPLEMENTARY INFORMATION: The Senior Environmental Employment (SEE) program is authorized by the Environmental Programs Assistance Act of 1984 (Pub. L. 98-313), which provides that the Administrator of the Environmental Protection Agency may “make grants to, or enter into cooperative agreements with,” specified private, nonprofit organizations for the purpose of “providing technical assistance to Federal, State and local environmental agencies for projects of pollution prevention, abatement, and control.” Cooperative agreements under the SEE Program provide support for many functions in the Agency, including clerical support, staffing hot lines, providing support to Agency enforcement activities, providing library services, compiling data, and providing support in scientific, engineering, financial and other areas.

In performing these tasks, grantees and cooperators under the SEE Program and their enrollees may have access to potentially all documents submitted under the Clean Air Act (CAA), the Clean Water Act (CWA), the Safe Drinking Water Act (SDWA), the Resource Conservation and Recovery Act (RCRA), the Federal Insecticide, Fungicide, and Rodenticide Act (FIFRA), the Emergency Planning Community Right-to-Know Act (EPCRA), the Federal Food, Drug, and Cosmetic Act (FFDCA) and the Comprehensive Environmental Response, Compensation, and Liability Act (CERCLA), to the extent that these statues allow disclosure of confidential information to “authorized representatives of the United States” or to “contractors.” Some of these documents may contain information claimed as confidential.

EPA provides confidential information to enrollees working under the following cooperative agreements:

Cooperative agreement number | Organization
National Association for Hispanic Elderly (NAHE)
Q-835398 | NAHE
Q-835418 | NAHE
QS-835429 | NAHE
Q-835445 | NAHE
National Asian Pacific Center on Aging (NAPCA)
Q-835376 | NAPCA
QS-835428 | NAPCA
National Caucus and Center on Black Aged, Inc. (NCBA)
Q-834571 | NCBA
Q-835019 | NCBA
Q-835021 | NCBA
Q-835427 | NCBA
Q-835446 | NCBA
Q-835561 | NCBA
Q-835562 | NCBA
Q-835563 | NCBA
Q-835580 | NCBA
Q-835587 | NCBA
National Council on the Aging, Inc. (NCOA)
Q-835387 | NCOA
Q-835566 | NCOA
Senior Service America, Inc. (SSAI)
Q-835372 | SSAI
Q-835373 | SSAI
Q-835430 | SSAI
Q-835452 | SSAI
Q-835572 | SSAI

Among the procedures established by EPA confidentiality regulations for granting access to confidential business information is notification to the submitters of CBI that SEE-grantee organizations and their enrollees will have access to this information. See 40 CFR 2.301(h)(2)(iii) for information submitted under the CAA, 40 CFR 350.23 for EPCRA, and corresponding provisions of 40 CFR 2.302-2.311, for other statutes listed above. This document is intended to fulfill that requirement.

The grantee organizations are required by the cooperative agreements to protect confidential information. SEE enrollees are required to sign confidentiality agreements and to adhere to the same security procedures as Federal employees.

Dated: April 9, 2014.
Susan Street,
SEE Program Manager.

[FR Doc. 2014-08502 Filed 4-14-14; 8:45 am]

BILLING CODE 6560-50-P